ENVIRONMENTAL PROTECTION AGENCY

[FRL-6568-2]

Agency Information Collection Activities: Submission for OMB Review; Comment Request; Information Collection Request for the State Water Quality Program Management Gap Analysis

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Information Collection Request for the State Water Quality Program Management Gap Analysis; EPA ICR No.1945.01. The ICR describes the nature of the information collection and its expected burden and cost; where appropriate, it includes the actual data collection instrument.

DATES: Comments must be submitted on or before May 1, 2000.

FOR FURTHER INFORMATION CONTACT: For a copy of the ICR contact Sandy Farmer at EPA by phone at (202) 260-2740, by email at farmer.sandy@epa.gov, or download a copy of the ICR off the Internet at http://www.epa.gov/icr and refer to EPA ICR No. 1945.01. For technical information about the collection contact Carol Crow at (202) 260-6742.

SUPPLEMENTARY INFORMATION: Title: Information Collection Request for the State Water Quality Program Management Gap Analysis; EPA ICR No. 1945.01. This is a new collection.

Abstract: The Environmental Protection Agency (EPA), in partnership with States, is conducting the State Water Quality Management Gap Analysis (Gap Analysis) to help enumerate current and future funding needs and to help identify innovative strategies for reducing resource gaps. To gather preliminary information in a short time frame, the Gap Analysis was divided into two phases. Phase I consisted of the development of an initial, national estimate of the resource gap faced by water quality management programs to provide a general idea of the magnitude of the resource gap faced by States.

Phase II of the Gap Analysis involves developing a detailed, activity-based workload model to provide a common framework and consistent methodology for States and EPA to estimate what it costs the States to meet the objectives of the Clean Water Act (CWA). In order to complete the model, EPA's Office of Wastewater Management (OWM) needs to gather data on the resources needed by each State for water quality management activities.

This is a one time collection effort by OWM and responses to this ICR are voluntary. The collection is necessary to develop a detailed activity-based workload model that will provide an estimate of the resource needs facing water quality management programs, both for individual States and the nation. EPA will use the collected information to estimate resource needs for water quality management activities.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 13, 2000 (65 FR 2162); no comments were received.

Burden Statement: The annual public reporting and recordkeeping burden for this collection of information is estimated to average 180.15 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State Water Quality Management Programs.

Estimated Number of Respondents: 20.

Frequency of Response: Once.

Estimated Total Annual Hour Burden: 3603 hours.

Estimated Total Annualized Cost Burden (non-labor costs): $0.

Send comments on the Agency's need for this information, the accuracy of the provided burden estimates, and any suggested methods for minimizing respondent burden, including through the use of automated collection techniques to the following addresses. Please refer to EPA ICR No. 1945.01 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503

Dated: March 22, 2000.
Oscar Morales,
Director, Collection Strategies Division.

[FR Doc. 00-7884 Filed 3-29-00; 8:45 am]

BILLING CODE 6560-50-P